DEPARTMENT OF THE TREASURY

Office of Thrift Supervision

12 CFR Parts 510, 546, 559, 560, 561, and 567

[No. 2005-57]

Technical Amendments

AGENCY: Office of Thrift Supervision, Treasury.

ACTION: Final rule.

SUMMARY: The Office of Thrift Supervision (OTS) is amending its regulations to incorporate a number of technical and conforming amendments. They include clarifications and corrections of typographical errors.

EFFECTIVE DATE: December 28, 2005.

FOR FURTHER INFORMATION CONTACT: Sandra E. Evans, Legal Information Assistant (Regulations), (202) 906-6076, Regulations and Legislation Division, Chief Counsel's Office, Office of Thrift Supervision, 1700 G Street, NW., Washington, DC 20552.

SUPPLEMENTARY INFORMATION: OTS is amending its regulations to incorporate a number of technical and conforming amendments. OTS is making the following miscellaneous changes:

• Part 510—Miscellaneous Organizational Regulations. The final rule revises OTS' regulation on waiver or relaxation of regulatory provisions with respect to disaster or emergency areas in § 510.2(b). The revision indicates that OTS will make such waivers by “order,” rather than by “resolution.” This update in terminology better reflects the usual method of operation of OTS, as compared to that of its predecessor, the Federal Home Loan Bank Board.

• Part 546—Federal Mutual Savings Associations—Merger, Dissolution, Reorganization, and Conversion. The final rule removes the name of an office that is no longer in existence and corrects a grammatical error.

• Part 559—Subordinate Organizations. The final rule adds investments in rural business investment companies (RBICs) to the list of preapproved activities for federal savings association service corporations. This addition reflects the statutory authority of savings associations to make such investments under 7 U.S.C. 2009cc-9. It is consistent with the inclusion of investments in small business investment companies and new market venture capital companies on the list of preapproved activities under the current rule.

• Part 560—Lending and Investment. The final rule adds investments in RBICs to the lending and investment powers chart. This addition reflects the statutory authority of savings associations to establish and invest in such entities, or any entity established to invest solely in RBICs, up to five percent of total capital and surplus under 7 U.S.C. 2009cc-9.

• Part 561—Definitions for Regulations Affecting All Savings Associations. The final rule revises the definition of “demand accounts” in § 561.16 to delete paragraph (b), remove the designation for paragraph (a), and make a grammatical change to the text that was formerly designated as paragraph (a). OTS is deleting paragraph (b) for consistency with a November 28, 2005, Chief Counsel opinion. That opinion concluded that the payment of a certain type of finders' fee would not violate the prohibition against the payment of interest on demand deposits in section 5(b)(1)(B)(i) of the Home Owners' Loan Act, 12 U.S.C. 1464(b)(1)(B)(i), even though the fees in question would not specifically fit the exceptions indicated in paragraph (b). Savings associations may, however, continue to rely on the language in paragraph (b) as two examples of permissible types of finders' fees.

• Part 567—Capital. The final rule corrects a typographical error in § 567.6(b)(5)(v)(B).

Administrative Procedure Act; Riegle Community Development and Regulatory Improvement Act of 1994

OTS finds that there is good cause to dispense with prior notice and comment on this final rule and with the 30-day delay of effective date mandated by the Administrative Procedure Act.¹ OTS believes that these procedures are unnecessary and contrary to public interest because the rule merely makes technical changes to existing provisions. Because the amendments in the rule are not substantive, these changes will not affect savings associations.

¹ 5 U.S.C. 553.

Section 302 of the Riegle Community Development and Regulatory Improvement Act of 1994 provides that regulations that impose additional reporting, disclosure, or other new requirements may not take effect before the first day of the quarter following publication.² This section does not apply because this final rule imposes no additional requirements and makes only technical changes to existing regulations.

² Public Law 103-325, 12 U.S.C. 4802.

Regulatory Flexibility Act

Pursuant to section 605(b) of the Regulatory Flexibility Act,³ the OTS Director certifies that this technical corrections regulation will not have a significant economic impact on a substantial number of small entities.

³ Public Law 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 510

Administrative practice and procedure.

12 CFR Part 546

Reporting and recordkeeping requirements, Savings associations.

12 CFR Part 559

Reporting and recordkeeping requirements, Savings associations, Subsidiaries.

12 CFR Part 560

Consumer protection, Investments, Manufactured homes, Mortgages, Reporting and recordkeeping requirements, Savings associations, Securities.

12 CFR Part 561

Savings associations.

12 CFR Part 567

Savings associations.

Accordingly, the Office of Thrift Supervision amends title 12, chapter V of the Code of Federal Regulations, as set forth below.

PART 510—MISCELLANEOUS ORGANIZATIONAL REGULATIONS

1. The authority citation for part 510 continues to read as follows:

Authority: 12 U.S.C. 1462a, 1463, 1464; Pub. L. 101-410, 104 Stat. 890; Pub. L. 104-134, 110 Stat. 1321-358.

§ 510.2 [Amended]

2. Amend § 510.2(b) by removing the word “resolution” and by adding the word “order” in its place.

PART 546—FEDERAL MUTUAL SAVINGS ASSOCIATIONS—MERGER, DISSOLUTION, REORGANIZATION, AND CONVERSION

3. The authority citation for part 546 continues to read as follows:

Authority: 12 U.S.C. 1462, 1462a, 1463, 1464, 1467a, 2901 et seq.

§ 546.4 [Amended]

4-5. Section 546.4 is amended in paragraph (a) by removing the phrase “or the Resolution Trust Corporation”, and in paragraph (b) by removing the phrase “and home-financing institutions” and adding the phrase “or home-financing institutions” in its place.

PART 559—SUBORDINATE ORGANIZATIONS

6. The authority citation for part 559 continues to read as follows:

Authority: 12 U.S.C. 1462, 1462a, 1463, 1464, 1828.

7. Revise § 559.4(g) to read as follows:

§ 559.4 What activities are preapproved for service corporations?

* * * * *

(g) Investments. (1) Tax-exempt bonds used to finance residential real property for family units;

(2) Tax-exempt obligations of public housing agencies used to finance housing projects with rental assistance subsidies;

(3) Small business investment companies and new markets venture capital companies licensed by the U.S. Small Business Administration;

(4) Rural business investment companies; and

(5) Investing in savings accounts of an investing thrift.

* * * * *

PART 560—LENDING AND INVESTMENT

8. The authority citation for part 560 continues to read as follows:

Authority: 12 U.S.C. 1462, 1462a, 1463, 1464, 1467a, 1701j-3, 1828, 3803, 3806; 42 U.S.C. 4106.

9. Amend the table in § 560.30 by adding an entry in alphabetical order to read as follows:

§ 560.30 General lending and investment powers of Federal savings associations.

* * * * *

Lending and Investment Powers Chart
Category | Statutory authorization ¹ | Statutory investment limitations (Endnotes contain applicable regulatory limitations)
* * * * * * *
Rural business investment companies | 7 U.S.C. 2009cc-9 | Five percent of total capital.
* * * * * * *

Endnotes

1. All references are to section 5 of the Home Owners' Loan Act (12 U.S.C. 1464) unless otherwise indicated.

* * * * *

PART 561—DEFINITIONS FOR REGULATIONS AFFECTING ALL SAVINGS ASSOCIATIONS

10. The authority citation for part 561 continues to read as follows:

Authority: 12 U.S.C. 1462, 1462a, 1463, 1464, 1467a.

11. Revise § 561.16 by removing paragraph (b), removing the designation for paragraph (a), and revising “which” to read “that” in both instances that it appears.

PART 567—CAPITAL

12. The authority citation for part 567 continues to read as follows:

Authority: 12 U.S.C. 1462, 1462a, 1463, 1464, 1467a, 1828 (note).

13. Amend 567.6(b)(5)(v)(B) by revising “1381o(g)” to read “1831o(g)”.

Dated: December 21, 2005.
By the Office of Thrift Supervision.
Scott M. Polakoff,
Deputy Director.

[FR Doc. 05-24499 Filed 12-27-05; 8:45 am]

BILLING CODE 6720-01-P